DEPARTMENT OF TRANSPORTATION

Federal Aviation Administration

14 CFR Part 39

[Docket No. FAA-2021-0663; Project Identifier MCAI-2020-01618-T; Amendment 39-21996; AD 2022-07-08]

RIN 2120-AA64

Airworthiness Directives; Airbus SAS Airplanes

AGENCY: Federal Aviation Administration (FAA), Department of Transportation (DOT).

ACTION: Final rule.

SUMMARY: The FAA is superseding Airworthiness Directive (AD) 2016-17-12, which applied to all Airbus SAS Model A318 series airplanes; Model A319-111, -112, -113, -114, -115, -131, -132, and -133 airplanes; Model A320-211, -212, -214, -231, -232, and -233 airplanes; and Model A321-111, -112, -131, -211, -212, -213, -231, and -232 airplanes. AD 2016-17-12 required inspecting certain trimmable horizontal stabilizer actuators (THSAs) to determine the number of total flight cycles the THSA has accumulated, and replacing the THSA if necessary. Since the FAA issued AD 2016-17-12, the FAA has determined that a more restrictive airworthiness limitations is necessary for carbon friction disks on the no-back brake (NBB) of the THSA. This AD continues to require the inspections of the THSAs and replacement if necessary. This AD also requires revising the existing maintenance or inspection program, as applicable, to incorporate new or more restrictive airworthiness limitations; as specified in a European Union Aviation Safety Agency (EASA) AD, which is incorporated by reference. This AD also limits the installation of affected parts under certain conditions. The FAA is issuing this AD to address the unsafe condition on these products.

DATES: This AD is effective May 19, 2022.

The Director of the Federal Register approved the incorporation by reference of a certain publication listed in this AD as of May 19, 2022.

The Director of the Federal Register approved the incorporation by reference of a certain other publication listed in this AD as of September 30, 2016 (81 FR 58823, August 26, 2016).

ADDRESSES: For EASA material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. For Airbus service information identified in this final rule, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. You may view this material at the FAA, Airworthiness Products Section, Operational Safety Branch, 2200 South 216th St., Des Moines, WA. For information on the availability of this material at the FAA, call 206-231-3195. It is also available in the AD docket at https://www.regulations.gov by searching for and locating Docket No. FAA-2021-0663. For the UTC Aerospace Systems material identified in this AD that will not be incorporated by reference, contact Collins Aerospace, Product Support Department 13, Avenue de L'Eguillette—Saint-Ouen L'Aumone, Boite Postale 7186 95056 Cergy Pontoise Cedex, France; telephone 1-877-808-7575; email crc@collins.com; internet https://www.collinsaerospace.com/support.

Examining the AD Docket

You may examine the AD docket at https://www.regulations.gov by searching for and locating Docket No. FAA-2021-0663; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Background

EASA, which is the Technical Agent for the Member States of the European Union, has issued EASA AD 2020-0270, dated December 7, 2020 (EASA AD 2020-0270) (also referred to as the MCAI), to correct an unsafe condition for all Airbus SAS Model A318-111, -112, -121, and -122 airplanes; Model A319-111, -112, -113, -114, -115, -131, -132, -133, -151N, -153N, and -171N airplanes; Model A320-211, -212, -214, -215, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes. Model A320-215 airplanes are not certificated by the FAA and are not included on the U.S. type certificate data sheet; this AD therefore does not include those airplanes in the applicability.

The FAA issued a notice of proposed rulemaking (NPRM) to amend 14 CFR part 39 to supersede AD 2016-17-12, Amendment 39-18625 (81 FR 58823, August 26, 2016) (AD 2016-17-12). AD 2016-17-12 applied to all Airbus SAS Model A318 series airplanes; Model A319-111, -112, -113, -114, -115, -131, -132, and -133 airplanes; Model A320-211, -212, -214, -231, -232, and -233 airplanes; and Model A321-111, -112, -131, -211, -212, -213, 231, and -232 airplanes. The NPRM published in the Federal Register on August 13, 2021 (86 FR 44663). Since the FAA issued AD 2016-17-12, new investigations determined that the compliance time for removal from service and replacement of certain carbon friction disks on the NBB of the THSA must be reduced. This replacement was required by AD 2016-17-12. This replacement, and newly reduced compliance time, have now been incorporated into Airbus A318/A319/A320/A321 Airworthiness Limitations Section (ALS) Part 4 Variation 7.1, dated October 5, 2020, as ALS limitation task 274000-00004-1-E.

The NPRM was prompted by a determination that a more restrictive airworthiness limitations is necessary for the carbon friction disks on the NBB of the THSA. The NPRM proposed to retain the requirements of AD 2016-17-12; and also require revising the existing maintenance or inspection program, as applicable, to incorporate a more restrictive airworthiness limitations, as specified in EASA AD 2020-0270. The NPRM also proposed to limit the installation of affected parts under certain conditions.

The NPRM also specified that revising the existing maintenance or inspection program, as applicable, to incorporate the more restrictive airworthiness limitation would terminate the ALS limitation task 274000-00004-1-E for the THSA, as required by paragraph (i) of AD 2020-21-10, Amendment 39-21283 (85 FR 65190, October 15, 2020) (AD 2020-21-10). The new airworthiness limitation for ALS limitation task 274000-00004-1-E specified in the NPRM reduces the compliance times and expands the applicability for the task.

The FAA is issuing this AD to address premature wear of the carbon friction disks on the no-back brake (NBB) of the THSA, which could lead to reduced braking efficiency in certain load conditions, and, in conjunction with the inability of the power gear train to keep the ball screw in its last commanded position, could result in uncommanded movements of the trimmable horizontal stabilizer and loss of control of the airplane. See the MCAI for additional background information.

Discussion of Final Airworthiness Directive

Comments

The FAA received comments from two commenters, including Air Line Pilots Association, International (ALPA) and United Airlines, who supported the NPRM without change.

The FAA received additional comments from two commenters, including Alaska Airlines (Alaska) and Delta Air Lines (Delta). The following presents the comments received on the NPRM and the FAA's response to each comment.

Request To Remove Paragraph (m)(7) of the Proposed AD

Alaska and Delta requested removal of paragraph (m)(7) of the proposed AD. Alaska stated that removing paragraph (m)(7) of the proposed AD would alleviate any confusion that would result from the FAA's exception to the EASA AD, and would also address any burden on U.S. operators having leased airplanes that have a return condition that those airplanes are in compliance with both the FAA and EASA's AD. Alaska noted that the vendor service bulletin, UTC Service Bulletin 47145-27-17, must be used for the NBB carbon disk replacement on a THSA assembly and referred to the Accomplishment Instructions of Airbus Service Bulletin A320-27-1242, which states to “send to the supplier the THSA (FIN 9CE) for modification in accordance with” the vendor service bulletin. Delta added that the airworthiness limitations section (ALS) variation references the UTC service information. Delta noted that a similar exception was not included in AD 2020-21-10, Amendment 39-21283 (85 FR 65190, October 15, 2020) (AD 2020-21-10), so it should not be added now. Delta also stated that paragraph (l)(2) of the proposed AD could be affected if paragraph (m)(7) of the proposed AD is removed.

The FAA disagrees. ALS limitation task 274000-00004-1-E specifies that the replacement can be done using “SB A320-27-1242 or VSB [vendor service bulletin] 47145-27-17.” The exception stated in paragraph (m)(7) of this AD removes the allowance in ALS limitation task 274000-00004-1-E to use only the UTC service information (“VSB 47145-27-17”) as a means to show compliance with the requirements of this AD. The UTC service information referred to certain information on testing and fault isolation as a source of information, but did not require doing those tests, which would have led to compliance being voluntary for those actions. The Airbus service information (“SB A320-27-1242”) contains more complete instructions for operators to comply with as previously required in AD 2016-17-12. Although a similar exception was not included in AD 2020-21-10 for ALS limitation task 274000-00004-1-E, the FAA has determined that this exception is necessary and must be included for the purposes of enforcing the AD requirements for U.S.-registered operators. As part of the rulemaking process for FAA ADs that correspond to ADs issued by other States of Design, the FAA determines if the MCAI ADs adequately address the identified unsafe condition or if exceptions are needed in order to address the unsafe condition. The FAA has not changed this AD in this regard.

Request To Revise Paragraph (b) of the Proposed AD

Delta requested that paragraph (b) of the proposed AD be revised from replacing AD 2016-17-12 to affecting AD 2016-17-12, and subsequently remove paragraphs (g) through (k) of the proposed AD that would retain AD 2016-17-12 requirements and then revise the terminating action paragraph to state that doing the actions of the proposed AD would terminate all requirements of AD 2016-17-12. Delta believed the changes would simplify the AD and clarify how to comply with the proposed requirements.

The FAA disagrees. In this case, the FAA determined that the supersedure method used in this AD would be the most effective for AD 2016-17-12 because the existing actions and the new changes related to those actions are within the same AD. The FAA has not changed this AD in this regard.

Request To Revise the Applicability

Delta requested that the applicability specified in paragraph (c) of the proposed AD be revised to affect only airplanes that have an original airworthiness certificate or original export airworthiness certificate issued on or before the date of the airworthiness limitations publication required. Delta pointed out that the FAA has published ADs with the requested language because airplanes with a later date are delivered with the required publication. Delta stated that for compliance with AD 2016-17-12, it needed to request an alternative method of compliance (AMOC) to use later revisions of the referenced airworthiness limitation documents because that AD did not have a cut-off date. Delta also stated that if its request for paragraph (c) of the proposed AD is granted, then the wording for paragraph (l) of the proposed AD would also be affected.

The FAA agrees that in most ADs that affect airworthiness limitations and reference airworthiness publications, the publication's date is used as a means of defining or limiting the group of airplanes based on its latest type design requirements. However, in this case, changing paragraph (c) of this AD would conflict with the requirements of AD 2016-17-12, which applied to all airplanes. Paragraph (c) of this AD has not been changed in this regard. However, the FAA has added paragraph (p)(1)(ii) to this AD to clarify the previously approved AMOCs for AD 2016-17-12 are approved as AMOCs to the corresponding retained requirements of this AD.

Request To Revise Paragraph (o) of the Proposed AD

Delta stated that the terminating action statement in paragraph (o) of the proposed AD should be deleted because paragraph (k) of the affected AD, AD 2020-21-10, contains a provision to allow alternative actions and intervals if approved by certain provisions in EASA AD 2020-0034, dated February 25, 2020. Delta also pointed out that the task specified in paragraph (o) of the proposed AD is only for certain airplanes, so those airplanes should be listed in paragraph (o) of the proposed AD.

The FAA disagrees with the statement that paragraph (o) of this AD should be deleted. The terminating action statement in paragraph (o) of this AD provides relief to operators, and avoids duplication and possible conflicting requirements. If paragraph (o) of this AD is removed, there would be two FAA ADs in effect that would require the same task and operators would be required to show compliance with both ADs for the same task with variable requirements. Paragraph (k) of AD 2020-21-10 provides provisions for alternative actions and intervals for paragraph (i) of AD 2020-21-10, but does not mandate the alternative method. The FAA has changed paragraph (o) of this AD to remove reference to the models and to the issuance date of original airworthiness certificate or original export certificate of airworthiness as not all models referenced in paragraph (o) of the proposed AD are in AD 2020-21-10. The models and the issuance date of the original airworthiness certificate or original export certificate of airworthiness specified in AD 2020-21-10 do not need to be referenced in paragraph (o) of this AD.

Request To Revise Process for Requiring Airworthiness Limitations

Delta suggested that the FAA consider revising FAA regulations to incorporate a requirement for commercial operators to incorporate and use new revisions of airworthiness limitation (AWL) or ALS documents within a certain time after those revisions are published. Delta believed that this change to the regulations would eliminate the need to issue ADs, simplify airworthiness limitations requirements for operators, and reduce operator taskloads in determining if they are in compliance with ADs or need to request an AMOC. Delta stated that there are usually two or three ADs a year that are published on ALS tasks for Model A320 airplanes.

While the FAA understands the commenter's concern, current FAA regulations require incorporating the latest ALS included in the type design of the airplane, such as 14 CFR 91.403(c) and 91.409(e). ADs are the only viable method to mitigate risk identified in a product when its type design did not require incorporation of the latest ALS document, as applicable, by mandating subsequent ALS revisions or variations at the applicable thresholds. The FAA's regulatory requirements are promulgated via notice-and-comment rulemaking as required by the Administrative Procedure Act (APA), and the public can petition for rulemaking pursuant to 14 CFR part 11.

Explanation of Change to Paragraph (m)(7) of the Proposed AD

The FAA has revised paragraph (m)(7) of this AD to clarify the location of the Note and to revise the format.

Conclusion

The FAA reviewed the relevant data, considered the comments received, and determined that air safety requires adopting this AD as proposed. Except for minor editorial changes and any other change described previously, this AD is adopted as proposed in the NPRM. None of the changes will increase the economic burden on any operator. Accordingly, the FAA is issuing this AD to address the unsafe condition on these products.

Related Service Information Under 1 CFR Part 51

EASA AD 2020-0270 describes new or more restrictive airworthiness limitations for airplane structures and safe life limits.

This AD also requires Airbus Service Bulletin A320-27-1242, Revision 01, dated February 4, 2016, which the Director of the Federal Register approved for incorporation by reference as of September 30, 2016 (81 FR 58823, August 26, 2016).

This material is reasonably available because the interested parties have access to it through their normal course of business or by the means identified in the ADDRESSES section.

Costs of Compliance

The FAA estimates that this AD affects 1,630 airplanes of U.S. registry. The FAA estimates the following costs to comply with this AD:

Estimated Costs for Required Actions *
Action | Labor cost | Parts cost | Cost per product | Cost on U.S. operators
Retained actions from AD 2016-17-12 (959 airplanes) | 1 work-hour × $85 per hour = $85 | $0 | $85 | $81,515
* Table does not include estimated costs for reporting/revising the existing maintenance or inspection program.

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

The FAA estimates the following costs to do any necessary on-condition actions that would be required based on the results of any required actions. The FAA has no way of determining the number of aircraft that might need this on-condition action:

Estimated Costs of On-Condition Actions
Labor cost | Parts cost | Cost per product
21 work-hours × $85 per hour = $1,785 | $26,500 | $28,285

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority : 49 U.S.C. 106(g), 40113, 44701.

§ 39.13 [Amended]

2. The FAA amends § 39.13 by:

a. Removing Airworthiness Directive (AD) 2016-17-12, Amendment 39-18625 (81 FR 58823, August 26, 2016); and

b. Adding the following new AD:

2022-07-08 Airbus SAS: Amendment 39-21996; Docket No. FAA-2021-0663; Project Identifier MCAI-2020-01618-T.

(a) Effective Date

This airworthiness directive (AD) is effective May 19, 2022.

(b) Affected ADs

(1) This AD replaces AD 2016-17-12, Amendment 39-18625 (81 FR 58823, August 26, 2016) (AD 2016-17-12).

(2) This AD affects AD 2020-21-10, Amendment 39-21283 (85 FR 65190, October 15, 2020) (AD 2020-21-10).

(c) Applicability

This AD applies to all Airbus SAS airplanes, certificated in any category, identified in paragraphs (c)(1) through (7) of this AD.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(5) Model A319-151N, -153N, and -171N airplanes.

(6) Model A320-251N, -252N, -253N, -271N, -272N, and -273N airplanes.

(7) Model A321-251N, -251NX, -252N, -252NX, -253N, -253NX, -271N, -271NX, -272N, and -272NX airplanes.

(d) Subject

Air Transport Association (ATA) of America Code 05, Time Limits/Maintenance Checks; 27, Flight Controls.

(e) Reason

This AD was prompted by a determination that a more restrictive airworthiness limitation is necessary for the carbon friction disks on the no-back brake (NBB) of the trimmable horizontal stabilizer actuator (THSA). The FAA is issuing this AD to address premature wear of the carbon friction disks on the NBB of the THSA, which could lead to reduced braking efficiency in certain load conditions, and, in conjunction with the inability of the power gear train to keep the ball screw in its last commanded position, could result in uncommanded movements of the trimmable horizontal stabilizer and loss of control of the airplane.

(f) Compliance

Comply with this AD within the compliance times specified, unless already done.

(g) Retained Inspection To Determine THSA Part Number and Accumulated Total Flight Cycles, With No Changes

This paragraph restates the requirements of paragraph (g) of AD 2016-17-12, with no changes. For airplanes identified in paragraphs (c)(1) through (4) of this AD: No later than each date specified in paragraphs (g)(1) through (5) of this AD, inspect the THSA to determine if it has a part number (P/N) 47145-(XXX), and, if any THSA P/N 47145-(XXX) is found, determine the total number of flight cycles accumulated since the THSA's first installation on an airplane, or since the most recent NBB replacement, whichever is later. A review of airplane delivery or maintenance records is acceptable in lieu of this inspection if the part number of the THSA can be conclusively determined from that review. In case maintenance records concerning the most recent NBB disk replacement are unavailable or incomplete, the total flight cycles accumulated since first installation of the THSA on an airplane apply. Accomplishing the maintenance or inspection program revision required by paragraph (l) of this AD terminates the requirements of this paragraph.

(1) As of September 30, 2016 (the effective date of AD 2016-17-12): The THSA flight-cycle limit (since first installation on an airplane, or since the most recent NBB replacement, whichever is later) is 40,000 total flight cycles.

(2) As of December 31, 2016: The THSA flight-cycle limit (since first installation on an airplane, or since the most recent NBB replacement, whichever is later) is 36,000 total flight cycles.

(3) As of December 31, 2017: The THSA flight-cycle limit (since first installation on an airplane, or since the most recent NBB replacement, whichever is later) is 33,600 total flight cycles.

(4) As of December 31, 2018: The THSA flight-cycle limit (since first installation on an airplane, or since the most recent NBB replacement, whichever is later) is 31,600 total flight cycles.

(5) As of December 31, 2019: The THSA flight-cycle limit (since first installation on an airplane, or since the most recent NBB replacement, whichever is later) is 30,000 total flight cycles.

(h) Retained Replacements, With No Changes

This paragraph restates the requirements of paragraph (h) of AD 2016-17-12, with no changes. For airplanes identified in paragraphs (c)(1) through (4) of this AD: For airplanes with any THSA P/N 47145-(XXX), do the replacements required by paragraphs (h)(1) and (2) of this AD. Accomplishing the maintenance or inspection program revision required by paragraph (l) of this AD terminates the requirements of this paragraph.

(1) No later than each date specified in paragraphs (g)(1) through (5) of this AD, replace all THSA that have reached or exceeded on each date the corresponding number of flight cycles specified in paragraphs (g)(1) through (5) of this AD. Do the replacement in accordance with the Accomplishment Instructions of Airbus Service Bulletin A320-27-1242, Revision 01, dated February 4, 2016. Affected THSAs must be replaced with serviceable THSAs.

(2) As of each date specified in paragraphs (g)(1) through (5) of this AD, and before exceeding the flight cycle limit corresponding to each date, as applicable: Replace each THSA with a serviceable THSA, in accordance with the Accomplishment Instructions of Airbus Service Bulletin A320-27-1242, Revision 01, dated February 4, 2016.

(i) Retained Definition of Serviceable THSA, With No Changes

This paragraph restates the definition of paragraph (i) of AD 2016-17-12, with no changes. For airplanes identified in paragraphs (c)(1) through (4) of this AD: For the purposes of this AD, a serviceable THSA is a THSA that has not exceeded the applicable flight-cycle limits, as specified paragraphs (g)(1) through (5) of this AD, since first installation of the THSA on an airplane or since last NBB replacement, whichever is later.

Note 1 to paragraph (i): Guidance for NBB disk replacement can be found in UTC Aerospace Systems Service Bulletin 47145-27-17, Revision 1, dated July 21, 2015.

(j) Retained Parts Installation Limitation, With No Changes

This paragraph restates the provisions of paragraph (j) of AD 2016-17-12, with no changes. For airplanes identified in paragraphs (c)(1) through (4) of this AD: As of each date specified in paragraphs (g)(1) through (5) of this AD, as applicable, only installation of a serviceable THSA P/N 47145-(XXX) is allowed on an airplane. Accomplishing the maintenance or inspection program revision required by paragraph (l) of this AD terminates the requirements of this paragraph.

(k) Retained Credit for Previous Actions, With No Changes

This paragraph restates the requirements of paragraph (k) of AD 2016-17-12, with no changes. For airplanes identified in paragraphs (c)(1) through (4) of this AD: This paragraph provides credit for actions required by paragraph (h) of this AD, if those actions were performed before September 30, 2016 (the effective date of AD 2016-17-12), using Airbus Service Bulletin A320-27-1242, dated February 9, 2015.

(l) New Maintenance or Inspection Program Revision

(1) For the airplanes identified in paragraph (c) of this AD with an original airworthiness certificate or original export certificate of airworthiness issued on or before October 5, 2020, except as specified in paragraph (m) of this AD: Comply with all required actions and compliance times specified in, and in accordance with, European Union Aviation Safety Agency (EASA) AD 2020-0270, dated December 7, 2020 (EASA AD 2020-0270). Accomplishing the maintenance or inspection program revision required by this paragraph terminates the requirements of paragraphs (g), (h), and (j) of this AD.

(2) For the airplanes identified in paragraph (c) of this AD with an original airworthiness certificate or original export certificate of airworthiness issued after October 5, 2020, revise the existing maintenance or inspection program, as applicable, to incorporate the provision specified in paragraph (m)(7) of this AD.

(m) Exceptions to EASA AD 2020-0270

(1) Where EASA AD 2020-0270 refers to its effective date, this AD requires using the effective date of this AD.

(2) The requirements specified in paragraphs (1) and (2) of EASA AD 2020-0270 do not apply to this AD.

(3) Paragraph (3) of EASA AD 2020-0270 specifies revising “the approved AMP” within 12 months after its effective date, but this AD requires revising the existing maintenance or inspection program, as applicable, within 90 days after the effective date of this AD.

(4) The initial compliance time for doing the tasks specified in paragraph (3) of EASA AD 2020-0270 is at the applicable “limitations” as incorporated by the requirements of paragraph (3) of EASA AD 2020-0270, or within 90 days after the effective date of this AD, whichever occurs later.

(5) The provisions specified in paragraph (4) of EASA AD 2020-0270 do not apply to this AD.

(6) The “Remarks” section of EASA AD 2020-0270 does not apply to this AD.

(7) For all airplanes identified in paragraph (c) of this AD: Where the Note for Item 274000-00004-1-E of Section 4-1 in the service information referenced in EASA AD 2020-0270 specifies “NBB carbon disc replacement” instructions, for this AD, replace the text “NBB carbon disc replacement can be accomplished in accordance with SB A320-27-1242 or VSB 47145-27-17,” with “NBB carbon disk replacement must be accomplished in accordance with SB A320-27-1242.”

(n) New Provisions for Alternative Actions and Intervals

After the existing maintenance or inspection program has been revised as required by paragraph (l) of this AD, no alternative actions (e.g., inspections) or intervals are allowed unless they are approved as specified in the provisions of the “Ref. Publications” section of EASA AD 2020-0270.

(o) Terminating Action for Certain Requirements of AD 2020-21-10

Accomplishing the actions required by this AD terminates the airworthiness limitations section (ALS) limitation task 274000-00004-1-E for the THSA, as required by paragraph (i) of AD 2020-21-10.

(p) Additional AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (q)(1) of this AD. Information may be emailed to: 9-AVS-AIR-730-AMOC@faa.gov.

(i) Before using any approved AMOC, notify your appropriate principal inspector, or lacking a principal inspector, the manager of the responsible Flight Standards Office.

(ii) AMOCs approved previously for AD 2016-17-12 are approved as AMOCs for the corresponding provisions of paragraphs (g) through (j) of this AD

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (p)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(q) Related Information

(1) For more information about this AD, contact Sanjay Ralhan, Aerospace Engineer, Large Aircraft Section, International Validation Branch, FAA, 2200 South 216th St., Des Moines, WA 98198; telephone and fax 206-231-3223; email sanjay.ralhan@faa.gov.

(2) For UTC Aerospace Systems service information identified in this AD that is not incorporated by reference, contact Collins Aerospace, Product Support Department 13, Avenue de L'Eguillette—Saint-Ouen L'Aumone, Boite Postale 7186 95056 Cergy Pontoise Cedex, France; telephone 1-877-808-7575; email crc@collins.com; internet https://www.collinsaerospace.com/support.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 19, 2022.

(i) European Union Aviation Safety Agency (EASA) AD 2020-0270, dated December 7, 2020.

(ii) [Reserved]

(4) The following service information was approved for IBR on September 30, 2016 (81 FR 58823, August 26, 2016).

(i) Airbus Service Bulletin A320-27-1242, Revision 01, dated February 4, 2016.

(ii) [Reserved]

(5) For EASA AD 2020-0270, contact EASA, Konrad-Adenauer-Ufer 3, 50668 Cologne, Germany; telephone +49 221 8999 000; email ADs@easa.europa.eu; internet www.easa.europa.eu. You may find this EASA AD on the EASA website at https://ad.easa.europa.eu.

(6) For Airbus service information, contact Airbus SAS, Airworthiness Office—EIAS, Rond-Point Emile Dewoitine No: 2, 31700 Blagnac Cedex, France; telephone +33 5 61 93 36 96; fax +33 5 61 93 44 51; email account.airworth-eas@airbus.com; internet https://www.airbus.com.

(7) You may view this material at the FAA, Airworthiness Products Section, Operational Safety Branch, 2200 South 216th St., Des Moines, WA. For information on the availability of this material at the FAA, call 206-231-3195.

(8) You may view this material that is incorporated by reference at the National Archives and Records Administration (NARA). For information on the availability of this material at NARA, email fr.inspection@nara.gov, or go to: https://www.archives.gov/federal-register/cfr/ibr-locations.html.

Issued on March 18, 2022.
Lance T. Gant,
Director, Compliance & Airworthiness Division, Aircraft Certification Service.

[FR Doc. 2022-07859 Filed 4-13-22; 8:45 am]

BILLING CODE 4910-13-P